DEPARTMENT OF ENERGY

Agency Information Collection Extension

AGENCY: Department of Energy.

ACTION: Notice and request for comments.

SUMMARY: The Department of Energy (DOE), pursuant to the Paperwork Reduction Act of 1995, intends to extend for three years an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 9, 2014. If you anticipate difficulty in submitting comments within that period, contact the person listed below as soon as possible.

ADDRESSES: Written comments may be sent to: Joseph Whitford, U.S. Department of Energy, Printing Team Leader, MA-42, 1000 Independence Ave. SW., Washington, DC 20585; or by fax at (202) 586-0753 or by email at joseph.whitford@hq.doe.gov.

FOR FURTHER INFORMATION CONTACT: Joseph Whitford at the address listed above.

SUPPLEMENTARY INFORMATION: This information collection request contains: (1) OMB No. 1910-0100; (2) Information Collection Request Title: Printing and Publishing Activities; (3) Type of Review: Renewal; (4) Purpose: The Congressional Joint Committee on Printing requires the Department to collect this data. The Department reports on information gathered and compiled from its facilities nation-wide on the usage of in-house printing and duplicating activities as well as all printing production from external Government Printing Office (GPO) and GPO vendors; (5) Annual Estimated Number of Respondents: 156; (6) Annual Estimated Number of Total Responses: 156 (7) Annual Estimated Number of Burden Hours: 1,530; (8) Annual Estimated Reporting and Recordkeeping Cost Burden: No costs associated with record keeping.

Authority: This information is reported to the Congressional Joint Committee on Printing pursuant to its regulations. Joint Committee on Printing, Government Printing and Binding Regulations, Title IV, Rules 48-55 (Feb. 1990), in S. Pub. No. 101-9, 101st Cong., 2d Sess., at 27-29 (1990).

Issued in Washington, DC, on April 2, 2014.
Joseph Whitford,
Printing Team Leader, Office of Administrative Management and Support.

[FR Doc. 2014-07858 Filed 4-7-14; 8:45 am]

BILLING CODE 6450-01-P